DEPARTMENT OF COMMERCE

National Oceanic and Atmospheric Administration

[I.D. 121500B]

North Pacific Management Council; Public Meetings

AGENCY: National Marine Fisheries Service (NMFS), National Oceanic and Atmospheric Administration (NOAA), Commerce.

ACTION: Notice of public meetings.

SUMMARY: The North Pacific Fishery Management Council (NPFMC) will conduct public meetings on protection of deep sea corals off coastal Alaska.

DATES: The meeting dates are January 10, 2001, 7 p.m., Sitka, AK, and January 12, 2001, 12 noon, Yakutat, AK.

ADDRESSES: The meeting locations are: Sitka, AK-Northern Southeast Regional Aquaculture Association Office, 1308 Sawmill Creek Road, Sitka, AK.

Yakutat, AK-Alaska Native Brotherhood Hall, 220 Max Italio, Yakutat, AK.

Council address: North Pacific Fishery Management Council, 605 W. 4th Avenue, Suite 306, Anchorage, AK 99501-2252.

FOR FURTHER INFORMATION CONTACT: Cathy Coon, NPFMC, telephone (907) 271-2809.

SUPPLEMENTARY INFORMATION: These stakeholder meetings will address Habitat Areas of Particular Concern (HAPC) for the protection of deep-sea corals off coastal Alaska. The concept is to develop a comprehensive and iterative approach for future HAPC identification and habitat protection involving researchers, stakeholders, and management agencies. These meetings are for an informal exchange of information between the public and management agencies.

Although non-emergency issues not contained in this notice may come before this Council for discussion, these issues may not be the subject of formal Council action during this meeting. Council action will be restricted to those issues specifically listed in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Helen Allen, telephone (907) 271-2809 at least 5 days prior to the meeting date.

Dated: December 15, 2000.
Richard W. Surdi
Acting Director, Office of Sustainable Fisheries, National Marine Fisheries Service.

[FR Doc. 00-32474 Filed 12-20-00; 8:45 am]

BILLING CODE: 3510-22 -S